FEDERAL DEPOSIT INSURANCE CORPORATION

Sunshine Act Meetings

Notice of Meeting Held With Less Than Seven Days Advance Notice

TIME AND DATE: 10:00 a.m. on April 25, 2024.

PLACE: This Board meeting will be open to public observation only by webcast. Visit https://www.fdic.gov/news/board-matters/video.html for a link to the webcast. FDIC Board Members and staff will participate from FDIC Headquarters, 550 17th Street NW, Washington, DC.

Observers requiring auxiliary aids (e.g., sign language interpretation) for this meeting should email DisabilityProgram@fdic.gov to make necessary arrangements.

STATUS: Open to public observation via webcast.

MATTERS TO BE CONSIDERED: The Federal Deposit Insurance Corporation's Board of Directors will meet in open session at 10:00 a.m. on Thursday, April 25, 2024 to consider the following matters:

Discussion Agenda

Memorandum re: Deposit Insurance Fund Restoration Plan Semiannual Update.

Memorandum and resolution re: Proposals Related to Change in Bank Control Act.

Summary Agenda

Disposition of Minutes of a Board of Directors' Meeting Previously Distributed.

Report of actions taken pursuant to authority delegated by the Board of Directors.

CONTACT PERSON FOR MORE INFORMATION: Direct requests for further information concerning the meeting to Debra A. Decker, Executive Secretary of the Corporation, at 202-898-8748.

Authority: 5 U.S.C. 552b.

Dated at Washington, DC, on April 23, 2024.
Federal Deposit Insurance Corporation.
James P. Sheesley,
Assistant Executive Secretary.

[FR Doc. 2024-09045 Filed 4-23-24; 4:15 pm]

BILLING CODE 6714-01-P